DEPARTMENT OF AGRICULTURE

Food Safety and Inspection Service

9 CFR Part 381

[Docket No. FSIS-2007-0045]

Use of Turkey Shackle in Bar-Type Cut Operations; Correcting Amendment

AGENCY: Food Safety and Inspection Service, USDA.

ACTION: Correcting amendment.

SUMMARY: The Food Safety and Inspection Service (FSIS) is amending the Federal poultry products inspection regulations to correct an inadvertent error in the required shackle width for Bar-type cut turkey operations that use J-type cut maximum line speeds.

DATES: This amendment is effective May 19, 2010.

FOR FURTHER INFORMATION CONTACT: Patrick Burke, Risk and Innovations Management Division, Office of Policy and Program Development, FSIS, U.S. Department of Agriculture, Room 2-2118 George Washington Carver Center, 5601 Sunnyside Avenue, Beltsville, MD 20705, (301) 504-0843.

SUPPLEMENTARY INFORMATION: On September 8, 2008, FSIS published a final rule that provides that turkey slaughter establishments that open turkey carcasses with Bar-type cuts may operate at the maximum line speeds established for J-type cuts if they use a shackle with a 4-inch by 4-inch selector (or kickout), a 45 degree bend of the lower 2 inches, an extended central loop portion of the shackle that lowers the abdominal cavity opening of the carcasses to an angle of 30 degrees from the vertical in direct alignment with the inspector's view, and a width of 10.5 inches (73 FR 51899). The specified shackle width of 10.5 inches is a typographical error, and the correct width is 10 inches. This notice corrects the error and amends § 381.68 to specify the correct 10-inch shackle width for Bar-type cut turkey operations that use J-type cut maximum line speeds.

Additional Public Notification

Public awareness of all segments of rulemaking and policy development is important. Consequently, in an effort to ensure that minorities, women, and persons with disabilities are aware of this proposed rule, FSIS will announce it online through the FSIS Web page located at http://www.fsis.usda.gov/Regulations_&_Policies/2010_Notices_Index/index.asp. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves, and have the option to password protect their accounts.

List of Subjects in 9 CFR Part 381

Poultry product inspection, Post-mortem.

For the reasons set forth in the preamble, 9 CFR part 381 is corrected by making the following correcting amendment:

PART 381—POULTRY PRODUCTS INSPECTION REGULATIONS

1. The authority citation for part 381 continues to read as follows:

Authority: 21 U.S.C. 451 et seq.

§ 381.68 [Corrected]

2. In § 381.68, the second sentence of paragraph (a) is amended by removing “10.5” and adding in its place “10”.

Done at Washington, DC, on May 13, 2010.
Alfred V. Almanza,
Administrator.

[FR Doc. 2010-11996 Filed 5-18-10; 8:45 am]

BILLING CODE 3410-DM-P